DEPARTMENT OF HEALTH AND HUMAN SERVICES

National Institutes of Health

Center for Scientific Review; Amended Notice of Meeting

Notice is hereby given of a change in the meeting of the Epidemiology of Cancer Study Section, October 17, 2013, 08:30 a.m. to October 18, 2013, 05:00 p.m., Melrose Hotel, 2430 Pennsylvania Ave. NW., Washington, DC 20037, which was published in the Federal Register on September 23, 2013, 78 FR 58324.

The meeting will start on January 6, 2014 and end on January 7, 2014. The meeting time and location remain the same. The meeting is closed to the public.

Dated: October 29, 2013.
Melanie J. Gray,
Program Analyst, Office of Federal Advisory Committee Policy.

[FR Doc. 2013-26191 Filed 11-1-13; 8:45 am]

BILLING CODE 4140-01-P